ENVIRONMENTAL PROTECTION AGENCY

[FRL-7103-1]

Notice of Availability for Public Review and Comment of EPA Staff White Paper That Explores a Number of Options for Addressing Boutique Fuels

AGENCY: Environmental Protection Agency (EPA).

ACTION: Notice.

SUMMARY: The President's National Energy Policy issued on May 17, 2001, directed EPA to * * * study opportunities to maintain or improve the environmental benefits of state and local “boutique” clean fuel programs while exploring ways to increase the flexibility of the fuels distribution infrastructure, improve fungibility, and provide added gasoline market liquidity * * *

In response to this directive, EPA prepared a report that discusses the actions that EPA will take in the near term to ensure a smoother transition from winter to summer grade reformulated gasoline (RFG). That report, entitled: “Study of Boutique Fuels and Issues Relating to Transition from Winter to Summer Gasoline” has been sent to the President and has been made publicly available, as noted below.

In addition, EPA staff also prepared a White Paper that addresses boutique fuels in the longer term. This White Paper, for which today EPA is announcing its availability, explores a number of options that could reduce the total number of fuels and lays the groundwork for further study. The Staff White Paper is entitled: “Study of Unique Gasoline Fuel Blends (“Boutique Fuels”), Effects on Fuel Supply and Distribution and Potential Improvements.”

EPA is publishing this notice of availability of and requesting public review and comment on the Staff White Paper. The public comment period will end December 31, 2001. The Staff White Paper, as well as the Study of Boutique Fuels and Issues Relating to Transition from Winter to Summer Gasoline, are both available in the public docket A-2001-20. The docket is located at U.S. Environmental Protection Agency, 401 M St., SW., Room 1500, Washington, DC 20460. The telephone number of the docket office is (202) 260-7548.

Both documents are also available on EPA's web site at http://www.epa.gov/otaq/fuels.htm.

FOR FURTHER INFORMATION CONTACT: Julia Macallister, Office of Air Quality and Transportation, (734) 214-4131, or by e-mail at macallister.julia@epa.gov.

Dated: November 7, 2001.
Jeffrey R. Holmstead,
Assistant Administrator, Office of Air and Radiation.

[FR Doc. 01-28522 Filed 11-13-01; 8:45 am]

BILLING CODE 6560-50-P